DEPARTMENT OF HEALTH AND HUMAN SERVICES

Administration for Children and Families

Submission for OMB Review; Study on the Conversion of Enrollment Slots From Head Start to Early Head Start (HS2EHS Study) (New Collection)

AGENCY: Office of Planning, Research, and Evaluation, Administration for Children and Families, U.S. Department of Health and Human Services.

ACTION: Request for public comment.

SUMMARY: The Administration for Children and Families (ACF) at the U.S. Department of Health and Human Services (HHS) is proposing a new information collection, using qualitative case studies, to examine how and why Head Start grant recipients convert enrollment slots from Head Start to Early Head Start and the facilitators and barriers to the implementation of high-quality Early Head Start services following conversion. This information collection aims to present an internally valid description of the experiences of up to six purposively selected cases, not to promote statistical generalization to different sites or service populations.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. All emailed requests should be identified by the title of the information collection.

SUPPLEMENTARY INFORMATION:

Description: This primary data collection request for the Study on the Conversion of Enrollment Slots from Head Start to Early Head Start (HS2EHS Study) aims to gather qualitative data about the experiences of up to six grant recipients that have converted enrollment slots from Head Start to Early Head Start. The HS2EHS Study will collect information about (a) how and why each grant recipient converted enrollment slots from Head Start to Early Head Start; (b) strategic planning for and implementation of high-quality Early Head Start services following conversion; and (c) barriers and facilitators to the provision of high-quality Early Head Start services that meet community needs. The HS2EHS team will also collect information about the state and local early care and education context and community need for Early Head Start services.

Respondents: Head Start directors and staff, Head Start policy council members, Head Start Training and Technical Assistance staff, and state and local Early Care and Education leaders and community partners.

Annual Burden Estimates
Instrument | Number of respondents (total over request period) | Number of responses per respondent (total over request period) | Average burden per response (in hours) | Total/annual burden (in hours)
Coordination Activities (Coordinator) | 6 | 1 | 3 | 18
Prep Email Request (Director) | 9 | 1 | .5 | 5
Preparatory Interview (Director, Onsite coordinator) | 18 | 1 | 1 | 18
Full Interview for Head Start Staff Protocol | 70 | 1 | 1.5 | 105
Full Interview for Non-Head Start Staff Protocol | 12 | 1 | 1.5 | 18

Estimated Total Annual Burden Hours: 164 hours.

Authority: Head Start Act section 640 [42 U.S.C. 9835].

Mary B. Jones,
ACF/OPRE Certifying Officer.

[FR Doc. 2022-12967 Filed 6-15-22; 8:45 am]

BILLING CODE 4184-22-P